DEPARTMENT OF HEALTH AND HUMAN SERVICES

National Institutes of Health

National Institute of Environmental Health Sciences; Amended Notice of Meeting

Notice is hereby given of a change in the meeting of the National Institute of Environmental Health Sciences Special Emphasis Panel, October 28, 2003, 10 a.m. to October 28, 2003, 1 p.m., NIEHS/National Institutes of Health, Building 4401, East Campus, 79 T.W. Alexander Drive, 122, Research Triangle Park, NC 27709 which was published in the Federal Register on September 25, 2003, 69 FR 55401.

The meeting will be held November 17, 2003 at 11 a.m. The meeting is closed to the public.

Dated: October 31, 2003.
LaVerne Y. Stringfield,
Director, Office of Federal Advisory Committee Policy.

[FR Doc. 03-28038 Filed 11-6-03; 8:45 am]

BILLING CODE 4140-01-M